DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Quality Subcommittee Meeting.

Time and Date:

October 18, 2010 10 a.m.-5:30 p.m. EST.

October 19, 2010 9 a.m.-3 p.m. EST.

Place: National Center for Health Statistics, 3311 Toledo Road, Auditorium A&B, Hyattsville, MD 20782.

Status: Open.

Purpose: The purpose of this meeting is to gain perspectives on the current activities necessary to support anticipated data needs in the medium term (3-5 year) of healthcare stakeholders—specifically consumers, providers, payers and regulators—to support quality measurement and improvement initiatives and their impact on both a population and individual level. The meeting will seek to identify critical path activities needed to advance quality measurement, including but not limited to future information needs and data sources.

Contact Person for More Information: Substantive program information as well as summaries of meetings and a roster of committee members may be obtained from Debbie Jackson, lead staff for Standards Subcommittee, NCVHS, Centers for Disease Control and Prevention, National Center for Health Statistics, 3311 Toledo Road, Room 2339, Hyattsville, Maryland, 20782, telephone (301) 458-4614 or Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: September 28, 2010.
James Scanlon,
Deputy Assistant Secretary for Planning and Evaluation (Science and Data Policy), Office of the Assistant Secretary for Planning and Evaluation.

[FR Doc. 2010-25192 Filed 10-5-10; 8:45 am]

BILLING CODE 4151-05-P